COMMISSION ON CIVIL RIGHTS

Agenda and Notice of Public Meeting of the Vermont Advisory Committee

Notice is hereby given, pursuant to the provisions of the rules and regulations of the U.S. Commission on Civil Rights, that a planning and town hall meeting of the Vermont Advisory Committee to the Commission will convene at 2 p.m. and recess at 3 p.m. (planning session); reconvening at 3 p.m. and adjourning at 8 p.m. (town hall meeting) on Wednesday, November 20, 2002, at the Contois Auditorium, Burlington City Hall, 149 Church Street, Burlington, Vermont 05401. The Advisory Committee will hold a planning meeting to prepare for future town hall meetings to be held in various regions of the State. The Committee will then hold a town hall meeting with parents, public agency officials, educators, and community leaders to discuss efforts to address racism and harassment of minorities in Vermont public schools and communities.

Persons desiring additional information, or planning a presentation to the Committee, should contact Marc Pentino of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, October 31, 2002.
Ivy L. Davis,
Chief, Regional Programs Coordination Unit.

[FR Doc. 02-28190 Filed 11-5-02; 8:45 am]

BILLING CODE 6335-01-P